DEPARTMENT OF TRANSPORTATION

Federal Aviation Administration

14 CFR Part 39

[Docket No. FAA-2008-0736; Directorate Identifier 2008-NM-102-AD; Amendment 39-15804; AD 2009-03-03]

RIN 2120-AA64

Airworthiness Directives; McDonnell Douglas Model DC-9-14, DC-9-15, and DC-9-15F Airplanes; and Model DC-9-20, DC-9-30, DC-9-40, and DC-9-50 Series Airplanes

AGENCY: Federal Aviation Administration (FAA), DOT.

ACTION: Final rule.

SUMMARY: We are adopting a new airworthiness directive (AD) for certain McDonnell Douglas airplanes listed above. This AD requires installing a dam assembly for the container of the fuel boost pump of the center tank located in the right main tank, and doing the related investigative actions, and corrective actions if necessary. This AD results from fuel system reviews conducted by the manufacturer. We are issuing this AD to prevent the center tank fuel boost pump from operating in a fuel vapor zone and becoming a potential ignition source in the right main tank, potentially resulting in a fuel tank explosion and consequent loss of the airplane.

DATES: This AD is effective March 31, 2009.

The Director of the Federal Register approved the incorporation by reference of a certain publication listed in this AD as of March 31, 2009.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: William S. Bond, Aerospace Engineer, Propulsion Branch, ANM-140L, FAA, Los Angeles Aircraft Certification Office, 3960 Paramount Boulevard, Lakewood, California 90712-4137; telephone (562) 627-5253; fax (562) 627-5210.

SUPPLEMENTARY INFORMATION:

Discussion

We issued a notice of proposed rulemaking (NPRM) to amend 14 CFR part 39 to include an airworthiness directive (AD) that would apply to certain McDonnell Douglas airplanes. That NPRM was published in the Federal Register on August 1, 2008 (73 FR 44937). That NPRM proposed to require installing a dam assembly for the container of the fuel boost pump of the center tank located in the right main tank, and doing the related investigative actions, and corrective actions if necessary.

Comments

We gave the public the opportunity to participate in developing this AD. We considered the comment received.

Request for Service Bulletin Validation

Northwest Airlines (NWA) has concerns that Boeing Service Bulletin DC9-28-216, dated March 18, 2008, has not been fully validated on an airplane. NWA states that the referenced service bulletin specifies that the identified change was completed on an airplane having fuselage number 807, before the initial release of the service bulletin. However, although accomplishment of the referenced service bulletin was started on that airplane (for a NWA airplane), it was determined that the fuel line hardware specified in the service bulletin is incorrect, and the actions could not be accomplished. NWA has contacted Boeing regarding the problem, and adds that, as written, the referenced service bulletin cannot be accomplished. NWA recommends that the service bulletin be validated prior to release of the AD.

We acknowledge the commenter's concern but we do not agree that Boeing Service Bulletin DC9-28-216, dated March 18, 2008, cannot be accomplished. The manufacturer has informed us that the fuel line hardware specified in Boeing Service Bulletin DC9-28-216, dated March 18, 2008, is correct. During validation of the service bulletin on the airplane having fuselage number 807, the identified problem was corrected prior to the release of Boeing Service Bulletin DC9-28-216, dated March 18, 2008. Therefore, we have made no change to the AD in this regard.

Conclusion

We reviewed the relevant data, considered the comment received, and determined that air safety and the public interest require adopting the AD as proposed.

Costs of Compliance

We estimate that this AD affects 413 airplanes of U.S. registry. We also estimate that it will take 3 or 7 work-hours per product, depending on airplane configuration, to comply with this AD. The average labor rate is $80 per work-hour. Required parts will cost $1,142 or $1,697 per product, depending on configuration of the airplane. Based on these figures, we estimate the cost of this AD to the U.S. operators to be $570,766 or $932,141, or $1,382 or $2,257 per product, depending on configuration of the airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-03-03 McDonnell Douglas: Amendment 39-15804. Docket No. FAA-2008-0736; Directorate Identifier 2008-NM-102-AD.

Effective Date

(a) This airworthiness directive (AD) is effective March 31, 2009.

Affected ADs

(b) None.

Applicability

(c) This AD applies to McDonnell Douglas Model DC-9-14, DC-9-15, DC-9-15F, DC-9-21, DC-9-31, DC-9-32, DC-9-32 (VC-9C), DC-9-32F, DC-9-33F, DC-9-34, DC-9-34F, DC-9-32F (C-9A, C-9B), DC-9-41, and DC-9-51 airplanes, certificated in any category; as identified in Boeing Service Bulletin DC9-28-216, dated March 18, 2008.

Unsafe Condition

(d) This AD results from fuel system reviews conducted by the manufacturer. We are issuing this AD to prevent the center tank fuel boost pump from operating in a fuel vapor zone and becoming a potential ignition source in the right main tank, potentially resulting in a fuel tank explosion and consequent loss of the airplane.

Compliance

(e) Comply with this AD within the compliance times specified, unless already done.

Install Dam Assembly

(f) Within 60 months after the effective date of this AD, install a dam assembly for the container of the fuel boost pump of the center tank located in the right main tank, and do the related investigative and applicable corrective actions, by accomplishing all the actions specified in the Accomplishment Instructions of Boeing Service Bulletin DC9-28-216, dated March 18, 2008. Do the applicable corrective actions before further flight.

Alternative Methods of Compliance (AMOCs)

(g)(1) The Manager, FAA, Los Angeles Aircraft Certification Office, ATTN: William S. Bond, Aerospace Engineer, Propulsion Branch, ANM-140L, FAA, Los Angeles Aircraft Certification Office, 3960 Paramount Boulevard, Lakewood, California 90712-4137; telephone (562) 627-5253; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Service Bulletin DC9-28-216, dated March 18, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet http://www.myboeingfleet.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on January 21, 2009.
Ali Bahrami,
Manager, Transport Airplane Directorate, Aircraft Certification Service.

[FR Doc. E9-3125 Filed 2-23-09; 8:45 am]

BILLING CODE 4910-13-P